GENERAL SERVICES ADMINISTRATION

41 CFR Parts 301-51 and 301-70

[FTR Case 2015-303; Docket 2016-0005, Sequence 1]

RIN 3090-AJ68

Federal Travel Regulation; Optimal Use of the Government Contractor-Issued Travel Charge Card

AGENCY: Office of Government-wide Policy (OGP), General Services Administration (GSA).

ACTION: Proposed rule.

SUMMARY: GSA is proposing to amend the Federal Travel Regulation (FTR) by updating the exemptions for mandatory use of the Government contractor-issued travel charge card to ensure the card is used as often as practicable.

DATES: Interested parties should submit written comments to the Regulatory Secretariat at one of the addresses shown below on or before March 29, 2016 to be considered in the formation of the final rule.

ADDRESSES: Submit comments identified by FTR Case 2015-303 by any of the following methods:

• Federal eRulemaking Portal: http://www.regulations.gov. Submit comments via the Federal eRulemaking portal by searching for “FTR Case 2015-303.” Select the link “Comment Now” that corresponds with “FTR Case 2015-303” and follow the instructions provided at the screen. Please include your name, company name (if any), and “FTR Case 2015-303” on your attached document.

• Mail: General Services Administration, Regulatory Secretariat (MVCB), Attn. Ms. Flowers, 1800 F Street NW., Washington, DC 20405.

Instructions: Please submit comments only and cite FTR Case 2015-303, in all correspondence related to this case. Comments received generally will be posted without change to http://www.regulations.gov, including any personal and/or business confidential information provided. To confirm receipt of your comment(s), please check www.regulations.gov approximately two to three days after submission to verify posting (except allow 30 days for posting of comments submitted by mail).

FOR FURTHER INFORMATION CONTACT: For clarification of content, contact Mr. Cy Greenidge, Program Analyst, Office of Government-wide Policy, at 202-219-2349. Contact the Regulatory Secretariat (MVCB), 1800 F Street NW., Washington, DC 20405, 202-501-4755, for information pertaining to status or publication schedules. Please cite FTR Case 2015-303.

SUPPLEMENTARY INFORMATION:

A. Background

The FTR currently lists official travel expenses and classes of employees that are exempt from the mandatory use of the Government contractor-issued travel charge card. See FTR sections 301-51.2 and 301-70.704. GSA has determined that these exemptions should be updated in order for agencies to maximize travel charge card rebates. This proposed rule emphasizes the need for agencies to maximize travel charge card rebates by increasing the use of the travel charge card. Additionally, this proposed rule updates the list of exemptions to the mandatory use of the Government contractor-issued travel charge card, with the goal being to increase the issuance and appropriate use of travel charge cards for employees on official travel.

B. Executive Orders 12866 and 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This proposed rule is not a significant regulatory action, and therefore, was not subject to review under Section 6(b) of E.O. 12866, Regulatory Planning and Review, dated September 30, 1993.

C. Regulatory Flexibility Act

This proposed rule would not have a significant economic impact on a substantial number of small entities within the meaning of the Regulatory Flexibility Act, 5 U.S.C. 601, et seq. This proposed rule is also exempt from the Administrative Procedure Act pursuant to 5 U.S.C. 553(a)(2) because it applies to agency management or personnel.

D. Paperwork Reduction Act

The Paperwork Reduction Act does not apply because the proposed changes to the FTR do not impose recordkeeping or information collection requirements, or the collection of information from offerors, contractors, or members of the public that require the approval of the Office of Management and Budget (OMB) under 44 U.S.C. 3501, et seq.

E. Small Business Regulatory Enforcement Fairness Act

This proposed rule is also exempt from Congressional review prescribed under 5 U.S.C. 801. This proposed rule is not a major rule under 5 U.S.C. 804.

List of Subjects in 41 CFR Parts 301-51 and 301-70

Administrative practices and procedures, Government employees, Travel and transportation expenses.

Dated: January 15, 2016.
Troy Cribb,
Associate Administrator (M), Office of Government-wide Policy.

For the reasons set forth in the preamble, pursuant to 5 U.S.C. 5701-5711, GSA proposes to amend 41 CFR parts—301-51 and 301-70 as set forth below:

PART 301-51—PAYING TRAVEL EXPENSES

1. The authority citation for 41 CFR part 301-51 continues to read as follows:

Authority: 5 U.S.C. 5707. Subpart A is issued under the authority of Sec. 2, Pub. L. 105-264, 112 Stat. 2350 (5 U.S.C. 5701 note); 40 U.S.C. 121(c).

2. Revise § 301-51.2 to read as follows:

§ 301-51.2 Are there any official travel expenses that are exempt from the mandatory use of the Government contractor-issued travel charge card?

Expenses for which payment through a travel charge card is impractical (e.g., vendor does not accept credit cards) or imposes unreasonable burdens or costs are exempt from use of the travel card (e.g. fees are charged for using the card). Your agency may also authorize exemption of an official travel expense when it is in the interest of the Government to do so (see § 301-51.4).

§§ 301-51.3 through 301-51.8 [Redesignated as §§ 301-51.4 through 301-51.9]

3. Redesignate §§ 301-51.3 through 301-51.8 as §§ 301-51.4 through 301-51.9, respectively.

4. Add a new § 301-51.3 to read as follows:

§ 301-51.3 What classes of employees are exempt from mandatory use of the Government contractor-issued travel charge card?

The Administrator of General Services exempts the following classes of employees from mandatory use of the Government contractor-issued travel charge card:

(a) Any employee who has an application pending for the Government contractor-issued travel charge card;

(b) Any employee, when issuance of the Government contractor-issued travel charge card would adversely affect the mission or put the employee at risk; and

(c) Any employee who is not eligible to receive a Government contractor-issued travel charge card.

§ 301-51.6 [Amended]

5. In the newly designated § 301-51.6, after paragraph (c), remove the words, “Note to § 301-51.5” and add the words “Note to § 301-51.6” in its place.

PART 301-70—INTERNAL POLICY AND PROCEDURE REQUIREMENTS

6. The authority citation for 41 CFR part 301-70 continues to read as follows:

Authority: 5 U.S.C. 5707; 40 U.S.C. 121(c); Sec. 2, Pub. L. 105-264, 112 Stat. 2350 (5 U.S.C. 5701, note), OMB Circular No. A-126, revised May 22, 1992, and OMB Circular No. A-123, Appendix B, revised January 15, 2009.

7. Amend § 301-70.700 by—

a. Removing from paragraph (b) the word “or”;

b. Removing from paragraph (c) the period after the word “exemption” and adding “; or” in its place; and

c. Adding paragraph (d) to read as follows:

§ 301-70.700 Must our employees use a Government contractor-issued travel charge card for official travel expenses?

* * * * *

(d) It is not in the interest of the Government to do so, or when payment through a travel charge card is impractical or imposes unreasonable burdens or costs on Federal employees.

8. Amend § 301-70.701 by revising paragraph (b) to read as follows:

§ 301-70.701 Who has the authority to grant exemptions to mandatory use of Government contractor-issued travel charge card for official travel?

* * * * *

(b) The head of a Federal agency or his/her designee(s) may exempt any payment, person, type or class of payments, or type or class of agency personnel when use of the travel charge card is impracticable or imposes unreasonable burdens or costs.

(1) Agencies must manage their travel charge card programs to alleviate risks associated with issuing a travel charge card, where appropriate. If an employee is deemed eligible for a Government contractor-issued travel charge card and is expected to travel, the card must be issued and activated within 60 days of the travel charge card eligibility date, as determined by the agency.

(2) Agencies should include information in their travel charge cardholder training to inform travelers of the statutory requirement to use the travel charge card and the benefits to the agency, as well as to the traveler, of its use. Such agency benefits include earning rebates that can be reinvested in mission delivery, as well as being able to readily identify the locations to which employees are traveling, which can be used to help determine the budgetary impact of lodging per diem rates. Some examples of benefits to the traveler are no interest charges, longer payment terms, no reliance on personal funds/personal credit cards, and the convenience of direct/split disbursement payment.

§ 301-70.702 [Amended]

9. Amend § 301-70.702 by removing “MTT” and adding “MAE” in its place.

10. Revise § 301-70.704 to read as follows:

§ 301-70.704 What classes of employees are exempt from mandatory use of the Government contractor-issued travel charge card?

The Administrator of General Services exempts the following classes of employees from mandatory use of the Government contractor-issued travel charge card:

(a) Any employee who has an application pending for the Government contractor-issued travel charge card;

(b) Any employee, when issuance of the Government contractor-issued travel charge card would adversely affect the mission or put the employee at risk; and

(c) Any employee who is not eligible to receive a Government contractor-issued travel charge card.

[FR Doc. 2016-01302 Filed 1-28-16; 8:45 am]

BILLING CODE 6820-14-P